DEPARTMENT OF ENERGY

Federal Energy Regulatory Commission

[Docket No. RP00-336-014]

El Paso Natural Gas Company; Notice of Compliance Filing

August 6, 2003.

Take notice that on August 1, 2003, El Paso Natural Gas Company (El Paso) tendered for filing to become part of its FERC Gas Tariff, First Revised Volume No. 1A, the tariff sheets listed in Appendices A, B and C to the filing.

El Paso states that the tariff sheets are being filed to implement the capacity allocation changes in compliance with the Commission's July 9, 2003 orders in this proceeding. The tariff sheets are proposed to become effective November 1, 2002 and September 1, 2003.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 13, 2003.

Linda Mitry,
Acting Secretary.

[FR Doc. 03-20602 Filed 8-12-03; 8:45 am]

BILLING CODE 6717-01-P